DEPARTMENT OF COMMERCE

National Oceanic and Atmospheric Administration

50 CFR Part 648

[Docket No. 0401120010-4114-02]

RIN 0648-XL40

Magnuson-Stevens Fishery Conservation and Management Act Provisions; Fisheries of the Northeastern United States; Northeast Multispecies Fishery; Modification of the Yellowtail Flounder Landing Limit for the U.S./Canada Management Area

AGENCY: National Marine Fisheries Service (NMFS), National Oceanic and Atmospheric Administration (NOAA), Commerce.

ACTION: Temporary rule; reduction of landing limit.

SUMMARY: This action decreases the Georges Bank (GB) yellowtail flounder trip limit to 2,500 lb (1,134 kg) for NE multispecies days-at-sea (DAS) vessels fishing in the U.S./Canada Management Area. This action is authorized by the regulations implementing Amendment 13 to the NE Multispecies Fishery Management Plan and is intended to prevent over-harvesting of the total allowable catch (TAC) for GB yellowtail flounder during the 2008 fishing year. This action is being taken to maintain opportunities for vessels to fully harvest the TACs for transboundary stocks of GB cod, haddock, and yellowtail flounder under the authority of the Magnuson-Stevens Fishery Conservation and Management Act (Magnuson-Stevens Act).

DATES: Effective October 23, 2008, through April 30, 2009.

FOR FURTHER INFORMATION CONTACT: Douglas Potts, Fishery Policy Analyst, (978) 281-9341, fax (978) 281-9135.

SUPPLEMENTARY INFORMATION: Regulations governing the GB yellowtail flounder landing limit within the U.S./Canada Management Area are found at 50 CFR 648.85(a)(3)(iv)(C) and (D). The regulations authorize vessels issued a valid limited access NE multispecies permit and fishing under a NE multispecies DAS to fish in the U.S./Canada Management Area, as defined at § 648.85(a)(1), under specific conditions. The TAC for GB yellowtail flounder for the 2008 fishing year (May 1, 2008 - April 30, 2009) was set at 1,950 mt (73 FR 16572, March 28, 2008), a 217-percent increase from the TAC for the 2007 fishing year.

The regulations at § 648.85(a)(3)(iv)(D) authorize the Administrator, Northeast (NE) Region, NMFS (Regional Administrator) to increase or decrease the trip limits in the U.S./Canada Management Area to prevent over-harvesting or under-harvesting the TAC allocation. On April 29, 2008 (73 FR 23130), based upon the 2008 TAC for GB yellowtail flounder and projections of harvest rates in the fishery, the trip limit for GB yellowtail flounder was set at 5,000 lb (2,268 kg) for the 2008 fishing year, to prevent a premature closure of the Eastern U.S./Canada Management Area and, therefore, reduced opportunities to fish for Eastern GB cod and haddock in the Eastern U.S./Canada Area.

According to the most recent Vessel Monitoring System (VMS) reports and other available information, the cumulative GB yellowtail flounder catch, as of October 16, 2008, is estimated to be over 40 percent of the TAC. Harvest of the GB yellowtail flounder TAC would result in the closing of the Eastern U.S./Canada Area, preventing harvest of the remaining portions of the GB cod and GB haddock TACs. Decreasing the GB yellowtail flounder trip limit to 2,500 lb (1,134 kg) from 5,000 lb (2,268 kg) is expected to reduce the number of trips made to the U.S./Canada Management Area to target GB yellowtail flounder, decrease landings of yellowtail flounder without increasing discards, and result in the achievement of the TAC during the fishing year without exceeding it. Based on this information, and at the request of the New England Fishery Management Council (Council), the Regional Administrator is decreasing the current 5,000-lb (2,268-kg) yellowtail flounder trip limit in the U.S./Canada Management Area to 2,500-lb (1,134-kg) per trip, effective 0001 hours local time October 23, 2008, through April 30, 2009.

GB yellowtail flounder landings will continue to be closely monitored. Further inseason adjustments to increase or decrease the trip limit may be considered, based on updated catch data and projections. Should 100 percent of the TAC allocation for GB yellowtail flounder be projected to be harvested, all vessels would be prohibited from harvesting, possessing, or landing yellowtail flounder from the entire U.S./Canada Management Area, and the Eastern U.S./Canada Area would be closed to limited access NE multispecies DAS vessels for the remainder of the fishing year.

Classification

This action is authorized by 50 CFR part 648 and is exempt from review under Executive Order 12866.

Pursuant to 5 U.S.C. 553(b)(3)(B) and (d)(3), there is good cause to waive prior notice and opportunity for public comment; as well as the delayed effectiveness for this action, because prior notice and comment, and a delayed effectiveness, would be impracticable and contrary to the public interest. The regulations under § 658.85(a)(3)(iv)(D) grant the Regional Administrator the authority to adjust the GB yellowtail flounder trip limit to prevent over-harvesting or under-harvesting the TAC allocation. This action would reduce the GB yellowtail trip limit for all NE multispecies DAS vessels fishing in the U.S./Canada Management Area for the remainder of the 2008 fishing year. This action is intended to prevent the over-harvest of the GB yellowtail flounder TAC while allowing continued opportunities to achieve optimum yield in the NE multispecies fishery.

This action is authorized by the regulations at § 648.85(a)(3)(iv)(D). It is important to take this action immediately to slow the rate of GB yellowtail flounder harvest. Any further delay of this action is likely to result in a precipitous harvest of the GB yellowtail flounder TAC which would require that the Eastern U.S./Canada Management Area be closed for the remainder of the 2008 fishing year, preventing the harvest of the remaining portions of the GB cod and GB haddock TACs, thereby reducing the ability of fishers to maximize their fishing opportunities. Exceeding the 2008 TAC for GB yellowtail flounder would increase mortality of this overfished stock beyond that evaluated during the development of Amendment 13, resulting in decreased revenue for the NE multispecies fishery, increased negative economic impacts to vessels operating in the U.S./Canada Area, a reduced chance of achieving optimum yield in the groundfish fishery, and unnecessary delays to the rebuilding of this overfished stock. Exceeding the 2008 GB yellowtail flounder TAC would also necessitate that any overages during the 2008 fishing year be deducted from the GB yellowtail flounder TAC for the 2009 fishing year. Reducing the 2009 TAC due to any 2008 TAC overage caused by delaying this action would create an unnecessary burden on the fishing industry and further negative economic and social impacts that were not previously considered.

The potential of decreasing the GB yellowtail flounder trip limit was announced to the public when the 5,000-lb (2,268-kg) trip limit was implemented on April 29, 2008. Additional public notice occurred when the Council voted to request that the Regional Administrator reduce the trip limit at its public meeting on October 8, 2008. Further, the public is able to obtain information on the rate of harvest of the GB yellowtail flounder TAC via the NMFS Northeast Regional Office website (http://www.nero.noaa.gov), which provides at least some advanced notice of a potential action to prevent the TAC for GB yellowtail flounder from being exceeded during the 2008 fishing year. The Regional Administrator's authority to decrease the trip limit for GB yellowtail flounder in the U.S./Canada Management Area to ensure the shared U.S./Canada stocks of fish are harvested, but not exceeded, was publically considered and open to public comment during the development of Amendment 13 and FW 42. Therefore, any negative effect the waiving of public comment and delayed effectiveness may have on the public is mitigated by these factors.

Authority: 16 U.S.C. 1801 et seq.

Dated: October 22, 2008.
Emily H. Menashes,
Acting Director, Office of Sustainable Fisheries, National Marine Fisheries Service.

[FR Doc. E8-25593 Filed 10-22-08; 4:40 pm]

BILLING CODE 3510-22-S